ENVIRONMENTAL PROTECTION AGENCY

[FRL-9923-21-OA]

Notification of a Face-to-Face Meeting and a Teleconference of the Science Advisory Board Biogenic Carbon Emissions Panel

AGENCY: Environmental Protection Agency (EPA).

ACTION: Notice.

SUMMARY: The Environmental Protection Agency (EPA or Agency) Science Advisory Board (SAB) Staff Office announces a public face-to-face meeting of the SAB Biogenic Carbon Emissions Panel to review EPA's Framework for Assessing Biogenic CO2 Emissions from Stationary Sources (November 2014). The SAB Staff Office also announces a public teleconference of the SAB Biogenic Carbon Emissions Panel to review its draft report on EPA's document.

DATES: The public face-to-face meeting will be held on March 25, 2015, from 9:00 a.m. to 5:00 p.m. (Eastern Time) and March 26, 2015 from 9:00 a.m. to 5:00 p.m. (Eastern Time). The teleconference will be held on May 29, 2015 from 1:00 p.m. to 4:00 p.m. (Eastern Time).

ADDRESSES: The face-to-face meeting will take place at the George Washington University, Milken Institute School of Public Health, Convening Center A and B, 950 New Hampshire Ave. NW., Washington, DC 20052. The teleconference will be held by telephone only.

FOR FURTHER INFORMATION CONTACT: Any member of the public wishing further information regarding the public meeting or public teleconference may contact Dr. Holly Stallworth, Designated Federal Officer (DFO), SAB Staff Office, by telephone/voice mail at (202) 564-2073 or via email at stallworth.holly@epa.gov. General information concerning the EPA Science Advisory Board can be found at the EPA SAB Web site at http://www.epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Biogenic Carbon Emissions Panel will hold a public meeting to review EPA's Framework for Assessing Biogenic CO2 Emissions from Stationary Sources (November 2014) and a public teleconference to review its draft report on EPA's document. The SAB will comply with the provisions of FACA and all appropriate SAB Staff Office procedural policies.

In 2011, EPA's Office of Atmospheric Programs (OAP) in EPA's Office of Air and Radiation requested SAB review of EPA's first draft accounting framework. A final report from the Science Advisory Board was transmitted to the EPA Administrator on September 28, 2012 and may be found posted at http://yosemite.epa.gov/sab/sabproduct.nsf/c91996cd39a82f648525742400690127/57B7A4F1987D7F7385257A87007977F6/$File/EPA-SAB-12-011-unsigned.pdf. The upcoming face-to-face meeting on March 25 and 26, 2015 and teleconference on May 29, 2015 are planned for a review of EPA's revised framework (November 2014) cited above. Background on the current advisory activity can be found on the SAB Web site at http://yosemite.epa.gov/sab/sabproduct.nsf/fedrgstr_activites/Biogenic%20CO2%20Framework?OpenDocument.

Availability of the meeting materials: Agendas will be posted on the SAB Web site prior to the March 25 and 26, 2015 face-to-face meeting and the May 29, 2015 teleconference. To locate these materials, go to epa.gov/sab and click on the calendar and then the respective meeting dates. EPA's review document, charge to the Panel and other background materials are also available at the URL above. For questions concerning EPA's Framework for Assessing Biogenic CO2 Emissions from Stationary Sources (November 2014), please contact Sara Ohrel, Climate Change Division, at ohrel.sara@epa.gov or (202) 343-9712.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation will be limited to five minutes per speaker for the face-to-face meeting and three minutes per speaker for the teleconference. Interested parties should contact Dr. Holly Stallworth, DFO, in writing (preferably via email), at the contact information noted above, by March 16, 2015 to be placed on the list of public speakers for the face-to-face meeting and by May 21, 2015 to be placed on the list of speakers for the teleconference.

Written Statements: Written statements should be received in the SAB Staff Office by March 16, 2015 to be considered for the face-to-face meeting and by May 21, 2015 to be considered for the teleconference. Written statements should be supplied to the DFO, preferably in electronic format via email. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: The public can view the March 25 and 26, 2015 meeting via a non-interactive webcast that will be broadcast on the Internet. The connection information to view the webcast will be provided on the meeting Web page at the time of the meeting. The meeting Web page may be found by going to http://epa.gov/sab and clicking on the calendar then the meeting date. For information on access or services for individuals with disabilities, please contact Dr. Stallworth at the phone number or email address noted above, preferably at least ten days prior to the meeting, to give EPA as much time as possible to process your request.

Dated: February 10, 2015.
Thomas H. Brennan,
Deputy Director, EPA Science Advisory Board Staff Office.

[FR Doc. 2015-03452 Filed 2-18-15; 8:45 am]

BILLING CODE 6560-50-P